ENVIRONMENTAL PROTECTION AGENCY

40 CFR Part 52

[EPA-R03-OAR-2010-0319; FRL-9211-6]

Approval and Promulgation of Air Quality Implementation Plans; Pennsylvania; Amendment to Consumer Products and Architectural and Industrial Maintenance Coatings Regulations

AGENCY: Environmental Protection Agency (EPA).

ACTION: Final rule.

SUMMARY: EPA is approving a State Implementation Plan (SIP) revision submitted by the Commonwealth of Pennsylvania concerning amendments to the Pennsylvania Consumer Products and Architectural and Industrial Maintenance Coatings Regulations. The SIP revision amends 25 Pa. Code Chapter 130, Subchapters B and C (relating to consumer products and architectural and industrial maintenance (AIM) coatings) in order to reduce volatile organic compounds (VOCs). This action is being taken under the Clean Air Act (CAA).

DATES: Effective Date: This final rule is effective on November 17, 2010.

ADDRESSES: EPA has established a docket for this action under Docket ID Number EPA-R03-OAR-2010-0319. All documents in the docket are listed in the http://www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http://www.regulations.gov or in hard copy for public inspection during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Gregory Becoat, (215) 814-2036, or by e-mail at becoat.gregory@epa.gov.

SUPPLEMENTARY INFORMATION:

I. Background

On June 21, 2010 (75 FR 34964), EPA published a notice of proposed rulemaking (NPR) for the Commonwealth of Pennsylvania. The NPR proposed approval of a revision of the Pennsylvania SIP that amends 25 Pa. Code Chapter 130, Subchapters B by adding VOC content limits for an additional 11 categories of consumer products and revising the VOC content limits for one category of consumer products currently regulated. The NPR also proposed approval of amendments to the SIP that add definitions for approximately 30 new terms and amends definitions for approximately 75 existing terms in order to provide clarity. Additionally, the term “VOC-volatile organic compound” is added to Subchapter B. The NPR proposed approval of a revision to the SIP that changes the definition of the term “VOC—volatile organic compound” in Subchapter C (relating to AIM coatings) to mirror the definition of the term in 25 Pa. Code Chapter 121 (relating to definitions). EPA received no comments on the NPR that proposed approval of Pennsylvania's SIP revision. The formal SIP revision was submitted by the Commonwealth of Pennsylvania on March 11, 2009.

II. Summary of SIP Revision

This SIP revision makes of the following amendments:

1. Adds and/or amends definitions, terms, and sections in 25 Pa. Code Chapter 130, Subchapters B and C for clarity, style, format, and consistency with the Ozone Transport Commission Model Rule and Federal definitions.

2. Adds and/or amends sections in 25 Pa. Code Chapter 130, Subchapter B in order to incorporate future changes in test procedures; deletes an unnecessary reference to a California regulatory provision; deletes and moves definitions and terms; allows for the sell-through of product manufactured prior to applicable effective dates; updates the product dating; establishes the lowest applicable VOC limit requirements; requires additional information on product containers; and establishes requirements for a variance or alternative control plan (ACP).

3. Establishes under 25 Pa. Code Chapter 130, Subchapter B, applicability to any person who sells, supplies, offers for sale, or manufactures consumer products on and after applicable compliance dates.

4. Establishes under 25 Pa. Code Chapter 130, Subchapter B, the percentage of VOC by weight that cannot be exceeded for consumer products that are sold, supplied, offered for sale or manufactured for sale in the Commonwealth of Pennsylvania, and lists exemptions from the VOC limits. The rule also contains requirements for the following: (1) Products registered under Federal Insecticide, Fungicide and Rodenticide Act, (2) products requiring dilution, (3) sell-through of products, (4) aerosols adhesives, (5) charcoal lighter materials, and (6) floor wax strippers.

5. Establishes under 25 Pa. Code Chapter 130, Subchapter B, exemptions for the following: (1) Products for shipment and use outside the Commonwealth, (2) antiperspirants and deodorants, (3) products registered under FIFRA, (4) air fresheners, (5) adhesives, (6) bait station insecticides, and (7) fragrances.

6. Establishes under 25 Pa. Code Chapter 130, Subchapter B, applicability for ACPs for consumer products, criteria for innovative products exemption and requirements for waiver requests. The rule also contains grounds for requesting a variance, as well as applicability for ACPs for consumer products. ACPs for consumer products are provided by allowing responsible parties the option to voluntarily enter into separate ACP agreements for the consumer products mentioned above. In addition, the rule contains the following administrative requirements: (1) Product dating, (2) most restrictive limit, (3) labeling, and (4) recordkeeping and reporting, as well as test methods for demonstrating compliance.

7. Establishes under 25 Pa. Code Chapter 130, Subchapter C, the meaning of “VOC—volatile organic compound,” unless the context clearly indicates otherwise.

Further details of the Commonwealth of Pennsylvania's regulation revisions can be found in a Technical Support Document prepared for the June 21, 2010 proposed rulemaking action.

III. Final Action

EPA is approving the Pennsylvania SIP revision that amends 25 Pa. Code Chapter 130, Subchapters B and C (relating to consumer products and AIM coatings) in order to reduce VOCs.

IV. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by December 17, 2010. Filing a petition for reconsideration by the Administrator of this final rule pertaining to Pennsylvania's amendment to 25 Pa. Code Chapter 130, Subchapters B and C (relating to Pennsylvania's Consumer Products and AIM Coatings Regulations), does not affect the finality of this action for the purposes of judicial review nor does it extend the time within which a petition for judicial review may be filed, and shall not postpone the effectiveness of such rule or action.

List of Subjects in 40 CFR Part 52

Environmental protection, Air pollution control, Incorporation by reference, Volatile organic compounds, Ozone, Reporting and recordkeeping requirements.

Dated: September 17, 2010.
W.C. Early,
Acting, Regional Administrator, Region III.

40 CFR part 52 is amended as follows:

PART 52—[AMENDED]

1. The authority citation for part 52 continues to read as follows:

Authority: 42 U.S.C. 7401 et seq.

Subpart NN—Pennsylvania

2. In § 52.2020, the table in paragraph (c)(1) is amended by:

a. Adding entries for Section 130.217 and 130.338.

b. Revising entries for Sections 130.201, 130.202, 130.211, 130.213, 130.214, 130.215, 130.331, 130.332, 130.334, 130.335, 130.371, 130.372, 130.373, 130.411, 130.412, 130.414, 130.452, 130.453, 130.454, 130.455, 130.457, 130.458, 130.460, 130.462, 130.465, 130.471, 130.602.

The amendments read as follows:

§ 52.2020 Identification of plan.

* * * * *

(c) * * *

(1) * * *

State citation | Title/subject | State effective date | EPA approval date | Additional explanation/§ 52.2063 citation
TITLE 25. ENVIRONMENTAL PROTECTION
ARTICLE III. AIR RESOURCES
* * * * * * *
Chapter 130—Standards for Products
* * * * * * *
Subchapter B—Consumer Products
General Provisions
Section 130.201 | Applicability | 10/11/08 | October 18, 2010 [Insert page number where the document begins] |
Section 130.202 | Definitions | 10/11/08 | October 18, 2010 [Insert page number where the document begins] |
Standard
Section 130.211 | Table of standards | 10/11/08 | October 18, 2010 [Insert page number where the document begins] |
* * * * * * *
Section 130.213 | Products registered under FIFRA | 10/11/08 | October 18, 2010 [Insert page number where the document begins] |
Section 130.214 | Requirements for charcoal lighter materials | 10/11/08 | October 18, 2010 [Insert page number where the document begins] |
Section 130.215 | Requirements for aerosol adhesives | 10/11/08 | October 18, 2010 [Insert page number where the document begins] |
* * * * * * *
Section 130.217 | Sell-through of products | 10/11/08 | October 18, 2010 [Insert page number where the document begins] | Adds section to allow for the sell-through of product manufactured prior to applicable effective dates.
Exemptions
Section 130.331 | Products for shipment and use outside this Commonwealth | 10/11/08 | October 18, 2010 [Insert page number where the document begins] |
Section 130.332 | Antiperspirants and deodorants | 10/11/08 | October 18, 2010 [Insert page number where the document begins] |
* * * * * * *
Section 130.334 | Products registered under FIFRA | 10/11/08 | October 18, 2010 [Insert page number where the document begins] |
Section 130.335 | Air fresheners | 10/11/08 | October 18, 2010 [Insert page number where the document begins] |
* * * * * * *
Section 130.338 | Fragrances | 10/11/08 | October 18, 2010 [Insert page number where the document begins] | Added section.
* * * * * * *
Administrative Requirements
Section 130.371 | Code-dating | 10/11/08 | October 18, 2010 [Insert page number where the document begins] |
Section 130.372 | Most restrictive limit | 10/11/08 | October 18, 2010 [Insert page number where the document begins] |
Section 130.373 | Additional labeling requirements for aerosol adhesives | 10/11/08 | October 18, 2010 [Insert page number where the document begins] |
* * * * * * *
Variances
Section 130.411 | Application for variance | 10/11/08 | October 18, 2010 [Insert page number where the document begins] |
Section 130.412 | Variance orders | 10/11/08 | October 18, 2010 [Insert page number where the document begins] |
* * * * * * *
Section 130.414 | Modification of variance | 10/11/08 | October 18, 2010 [Insert page number where the document begins] |
* * * * * * *
ACP for Consumer Products
* * * * * * *
Section 130.452 | Exemption | 10/11/08 | October 18, 2010 [Insert page number where the document begins] |
Section 130.453 | Request for exemption | 10/11/08 | October 18, 2010 [Insert page number where the document begins] |
Section 130.454 | Application for an ACP | 10/11/08 | October 18, 2010 [Insert page number where the document begins] |
Section 130.455 | Recordkeeping and availability of requested information | 10/11/08 | October 18, 2010 [Insert page number where the document begins] |
* * * * * * *
Section 130.457 | Limited-use surplus reduction credits for early reformulations of ACP products | 10/11/08 | October 18, 2010 [Insert page number where the document begins] |
Section 130.458 | Reconciliation of shortfalls | 10/11/08 | October 18, 2010 [Insert page number where the document begins] |
* * * * * * *
Section 130.460 | Modifications that require Department preapproval | 10/11/08 | October 18, 2010 [Insert page number where the document begins] |
* * * * * * *
Section 130.462 | Modification of an ACP by the Department | 10/11/08 | October 18, 2010 [Insert page number where the document begins] |
* * * * * * *
Section 130.465 | Other applicable requirements | 10/11/08 | October 18, 2010 [Insert page number where the document begins] |
Public Hearing Requirements
Section 130.471 | Public hearings | 10/11/08 | October 18, 2010 [Insert page number where the document begins] |
Subchapter C—Architectural and Industrial Maintenance Coatings
* * * * * * *
Section 130.602 | Definitions | 10/11/08 | October 18, 2010 [Insert page number where the document begins] |
* * * * * * *

* * * * *

[FR Doc. 2010-25317 Filed 10-15-10; 8:45 am]

BILLING CODE 6560-50-P